DEPARTMENT OF LABOR

Employment and Training Administration

Public Meeting of the Advisory Committee on Apprenticeship (ACA)

AGENCY: Employment and Training Administration, Labor.

ACTION: Notice of open meeting.

SUMMARY: Pursuant to section 10 of the Federal Advisory Committee Act (Pub. L. 92-463; 5 U.S.C. APP. 1), notice is hereby given of a meeting of the Advisory Committee on Apprenticeship (ACA).

Time and Date: The meeting will begin at approximately 8:30 a.m. on Tuesday, March 9, and continue until approximately 5 p.m. The meeting will reconvene at approximately 8:30 a.m. on Wednesday, March 10, and continue until approximately 4 p.m.

Place: Wyndham Baltimore Inner Harbor Hotel, 101 West Fayette Street, Baltimore, Maryland 21201, Telephone: (410) 752-1100.

The agenda is subject to change due to time constraints and priority items which may come before the Committee between the time of this publication and the scheduled date of the ACA meeting.

FOR FURTHER INFORMATION CONTACT: Mr. Anthony Swoope, Administrator, Office of Apprenticeship Training, Employer and Labor Services, Employment and Training Administration, U.S. Department of Labor, Room N-4671, 200 Constitution Avenue NW., Washington, DC 20210. Telephone: (202) 693-2796 (this is not a toll-free number).

Matters To Be Considered: The agenda will focus on a series of status reports from the Committee's subcommittees, and selected presenters on the following topics:

• Status of Recommendations

• Technical Assistance Provider's Bank

• National Institute for Metalworking Skills (NIMS) Competency-Based Apprenticeship

• One-Stop System

• Partnerships with Education

• High-Growth Job Training Initiative

Status: Members of the public are invited to attend the proceedings. Individuals with special needs should contact Ms. Marion Winters at (202) 693-3786 no later than March 2, 2004, if special accommodations are needed.

Any member of the public who wishes to file written data or comments pertaining to the agenda may do so by forwarding their request to Mr. Anthony Swoope, Administrator, Office of Apprenticeship Training, Employer and Labor Services, Employment and Training Administration, U.S. Department of Labor, Room N-4671, 200 Constitution Avenue NW., Washington, DC 20210. Such submissions should be sent by March 2, 2004, to be included in the record for the meeting.

Any member of the public who wishes to speak at the meeting should indicate the nature of the intended presentation and the amount of time needed by furnishing a written statement to the Designated Federal Official, Mr. Anthony Swoope, by March 2, 2004. The Chairperson will announce at the beginning of the meeting the extent to which time will permit the granting of such requests.

Signed at Washington, DC, this 13th day of February, 2004.
Emily Stover DeRocco,
Assistant Secretary for Employment and Training Administration.

[FR Doc. 04-3678 Filed 2-19-04; 8:45 am]

BILLING CODE 4510-30-P